DEPARTMENT OF TRANSPORTATION

Federal Aviation Administration

14 CFR Part 71

[Airspace Docket No. 00-AEA-03]

Proposed Amendment to Class E Airspace; Salisbury, MD

AGENCY: Federal Aviation Administration (FAA), DOT.

ACTION: Notice of proposed rulemaking.

SUMMARY: This notice proposes to amend the Class E airspace at Salisbury, MD. Establishment of Class D airspace at Salisbury, MD, necessitated by the opening of a new Air Traffic Control Tower (ATCT) Controlled airspace extending upward from Above Ground Level (AGL) is needed to accommodate operations under Instrument Flight Rules (IFR) at the airport when the tower is not in operation.

DATES: Comments must be received on or before February 12, 2001.

ADDRESSES: Send comments on the proposal in triplicate to: Manager, Airspace Branch, AEA-520, Docket No. 00-AEA-03, Eastern Region, 1 Aviation Plaza, Jamaica, NY 11434-4809.

The official docket may be examined in the Office of the Regional Counsel, AEA-7 Eastern Region, 1 Aviation Plaza, Jamaica, NY 11434-4809.

An informal docket may also be examined during normal business hours in the Airspace Branch, AEA-520, Eastern Region, 1 Aviation Plaza, Jamaica, NY 11424-4809.

00-AEA-03FR] paragraph 6002 of FAA Order 7400.9G, dated September 10, 2000 and effective September 16, 2000, which is incorporated by reference in 14 CFR 71.1. The Class E airspace designation listed in this document will be amended in the order.

The Rule

This amendment to Part 71 of the Federal Aviation Regulations (14 CFR Part 71) provides controlled Class E airspace extending upward from the surface for aircraft executing an SIAP at Salisbury-Ocean City, Wicomico Regional Airport.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR Part 71 continues to read as follows:

Authority: 49 U.S.C. 106(g), 40103, 40113, 40120; EO 10854, 24 FR 9565, 3 CFR, 1959-1963 Comp., p. 389.

§ 71.1 [Amended]

The incorporation by reference in 14 CFR 71.1 of Federal Aviation Administration Order 7400.9G, Airspace Designations and Reporting Points, dated September 10, 2000, and effective September 16, 2000, is amended as follows:

Paragraph 6002 Class E airspace areas extending upward from the surface of the earth.

* * * * *

AEA MD E2, Salisbury, MD (Revised)

Salisbury-Ocean City, Wicomico County Regional Airport

(Lat. 38°20.43′ N/long. 75°30.6′ W)

That airspace extending upward from the surface within a 4.1 mile radius of the Salisbury-Wicomico County Airport and within 3.1 miles each side of the Salisbury VORTAC 209° radial extending from the 4.1 mile radius to 9.2 miles southwest of the VORTAC and within 3.1 miles each side of the Salisbury VORTAC 052° radial extending from the 4.1 mile radius to 8.3 miles northeast of the VORTAC and within 1 mile each side of the Salisbury-Wicomico County Airport localizer northwest course extending from the 4.1 mile radius to 4.8 mile northwest of the localizer and within 3.1 miles each side of the Salisbury VORTAC 132° radial extending from the 4.1 mile radius to 9.2 miles southeast of the VORTAC. This Class E airspace area is effective during those times when the Class D airspace is not in effect.

* * * * *

Issued in Jamaica, New York on December 18, 2000.
Franklin D. Hatfield,
Manager, Air Traffic Division, Eastern Region.

[FR Doc. 01-1089 Filed 1-11-01; 8:45 am]

BILLING CODE 4910-13-M